DEPARTMENT OF JUSTICE

Antitrust Division

Notice Pursuant to the National Cooperative Research and Production Act of 1993—Open Systemic Initiative

Notice is hereby given that, on November 13, 2006, pursuant to Section 6(a) of the National Cooperative Research and Production Act of 1993, 15 U.S.C. 4301 et seq. (“the Act”), Open SystemC Initiative (“OSCI”) has filed written notifications simultaneously with the Attorney General and the Federal Trade Commission disclosing changes in its membership. The notifications were filed for the purpose of extending the Act's provisions limiting the recovery of antitrust plaintiffs to actual damages under specified circumstances. Specifically, Actis Design, LLC, Portland, OR; Broadcom Corporation, Bristol, United Kingdom; Denali Software, Inc., Palo Alto, CA; Freescale Semiconductor, Inc., Herzelia, Israel; NEC Corporation, Kawasaki, Japan; SpringSoft, Inc., Hsinchu, Taiwan; and Vast Systems, Inc., Sunnyvale, CA have been added as parties to this venture.

No other changes have been made in either the membership or planned activity of the group research project. Membership in this group research project remains open, and OSCI intends to file additional written notifications disclosing all changes in membership.

On October 9, 2001, OSCI filed its original notification pursuant to Section 6(a) of the Act. The Department of Justice published a notice in the Federal Register pursuant to Section 6(b) of the Act on January 3, 2002 (67 FR 350).

The last notification was filed with the Department on February 27, 2006. A notice was published in the Federal Register pursuant to Section 6(b) of the Act on March 27, 2006 (71 FR 15218).

Patricia A. Brink,
Deputy Director of Operations, Antitrust Division.

[FR Doc. 06-9645 Filed 12-11-06; 8:45 am]

BILLING CODE 4410-11-M